ENVIRONMENTAL PROTECTION AGENCY

[FRL-9795-01-OECA]

NPDES Electronic Reporting Rule Implementation: Notice of Initial Recipient Designation for Oregon Department of Environmental Quality

AGENCY: Environmental Protection Agency (EPA).

ACTION: Notice of approval.

SUMMARY: This Federal Register document provides notice of the U.S. Environmental Protection Agency's (EPA) approval of the Oregon Department of Environmental Quality as the initial recipient for electronic data reporting under the NPDES Electronic Reporting Rule (“NPDES eRule”), effective December 6, 2021, for all National Pollutant Discharge Elimination System (NPDES) data groups except for “No. 4—Sewage Sludge/Biosolids Annual Program Reports.” Oregon Department of Environmental Quality cannot be the initial recipient for this data group as EPA is the authorized NPDES program for the Federal biosolids program.

DATES: This approval was effective December 6, 2021.

FOR FURTHER INFORMATION CONTACT: For additional information, please contact Mr. Carey A. Johnston, Office of Compliance (mail code 2222A), Environmental Protection Agency, 1200 Pennsylvania Avenue, NW, Washington, DC, 20460; email address: johnston.carey@epa.gov.

SUPPLEMENTARY INFORMATION: The U.S. Environmental Protection Agency (EPA) promulgated the NPDES Electronic Reporting Rule (“NPDES eRule”) in 2015 to modernize Clean Water Act reporting for municipalities, industries, and other facilities by converting to an electronic data reporting system (see 22 October 2015; 80 FR 64064). The NPDES eRule requires regulated entities and state and Federal regulators to use existing, available information technology to electronically report data required by the National Pollutant Discharge Elimination System (NPDES) permit program instead of filing written paper reports. EPA amended this rule in 2020 to provide itself and states with more time to develop and deploy electronic reporting tools (see 2 November 2020; 85 FR 69189).

This switch from paper to electronic reporting saves time and resources for permittees, states, tribes, territories, and the U.S. Government while increasing data accuracy, improving compliance, and supporting EPA's goal of providing better protection of the Nation's waters. The NPDES eRule helps provide greater clarity on who is and who is not in compliance and enhances transparency by providing a timelier, complete, more accurate, and nationally-consistent set of data about the NPDES program.

The NPDES eRule requires each authorized NPDES program to decide whether to use EPA's electronic reporting tools or to use their own electronic reporting tools.¹ Authorized states can make this decision or defer this decision to EPA. The governmental entity, either the state or EPA, that makes this decision is the “initial recipient.” The NPDES eRule requires EPA to publish on its website and in the Federal Register a listing of the initial recipients for electronic NPDES information from NPDES-regulated facilities by state, tribe, and territory and by NPDES data group. EPA published this initial listing on September 9, 2016 (see 81 FR 62395). The NPDES eRule also requires EPA to publish on its website and in the Federal Register a revised listing of initial recipients upon specified changes to the list of initial recipients (see 40 CFR 127.27(c)-(f)).

¹ EPA authorized Oregon to administer the NPDES program on September 26, 1973. See EPA website, “NPDES State Program Authority,” at https://www.epa.gov/npdes/npdes-state-program-authority.

The NPDES eRule allows an authorized NPDES program to seek EPA approval to change the initial recipient status for one or all of the NPDES data groups from EPA to the authorized NPDES program. 40 CFR 127.27(e). To make this switch, the authorized NPDES program must send a request to EPA. This request must identify the specific NPDES data groups for which the authorized NPDES program would like to be the initial recipient of electronic NPDES information, a description of how its data system will be compliant with the NPDES eRule and the Cross-Media Electronic Reporting Rule (CROMERR) (40 CFR part 3), and the date or dates when the authorized NPDES program will be ready to start receiving this information. The Oregon Department of Environmental Quality (hereinafter Oregon DEQ) sent EPA such a request on September 23, 2020.²

² Oregon DEQ Letter to EPA, 2020. “Request to Designate Oregon DEQ as eRule `Initial Recipient' for All NPDES Data Groups,” Signed by Justin Green, Water Quality Administrator, Oregon DEQ, September 23, 2020.

Oregon DEQ noted in its letter to EPA that it will be using an Environmental Data Management System, which is produced by enfoTech, Inc., for all of its NPDES program data. Oregon DEQ plans to start using this new system in 2022 and will only put this system into full operation after it receives EPA's CROMERR approval.³ Oregon DEQ stated that this new system will be implemented in stages and that each stage will include rigorous testing. Finally, Oregon DEQ confirmed that its new system will collect and share the minimum set of NPDES program data in accordance with the NPDES eRule data sharing standards (see subpart B, 40 CFR part 127).

³ See EPA website, “CROMERR Overview for State, Tribal and Local Governments,” at https://www.epa.gov/cromerr/cromerr-overview-state-tribal-and-local-governments.

EPA has completed its review of Oregon DEQ's request and, on December 6, 2021, approved Oregon DEQ as the “Initial Recipient” for all NPDES data groups except for “No. 4—Sewage Sludge/Biosolids Annual Program Reports” (see Table 1, appendix A to 40 CFR part 127). Oregon DEQ cannot be the initial recipient for this data group as EPA is the authorized NPDES program for the Federal biosolids program (40 CFR part 503). The effective date for this new status is December 6, 2021.⁴ In accordance with the NPDES eRule, EPA is publishing the notice of this switch on its website and in the Federal Register. The following is the updated list of states that have elected for EPA to be the initial recipient for one or more NPDES data groups.

⁴ U.S. EPA Memorandum to Oregon DEQ, 2021. “U.S. EPA Approval of Oregon as Initial Recipient for NPDES Electronic Reporting,” Signed by John Dombrowski, Director, Office of Compliance, Office of Enforcement and Compliance Assurance, December 6, 2021.

State | State elected for EPA to be initial recipient for general permit reports (NPDES data group No. 2) | State elected for EPA to be initial recipient for discharge monitoring reports (DMRs) (NPDES data group No. 3) | State elected for EPA to be initial recipient for program reports (NPDES data group Nos. 4 through 10)
Georgia | Yes (All) | Yes | Yes (All).
Nebraska | Yes (All) | Yes | Yes (All).
New Jersey | No | No | Yes (only for Concentrated Animal Feeding Operation (CAFO) Annual Program Report).
North Carolina | Yes (only for Low Erosivity Waivers and No Exposure Certifications) | No | No.
Rhode Island | Yes (All) | Yes | Yes (All).

Dated: May 19, 2022.
John Dombrowski,
Director, Office of Compliance, Office of Enforcement and Compliance Assurance.

[FR Doc. 2022-11247 Filed 5-24-22; 8:45 am]

BILLING CODE 6560-50-P